DEPARTMENT OF TRANSPORTATION

Federal Aviation Administration

14 CFR Part 39

[Docket No. 2001-SW-43-AD]

RIN 2120-AA64

Airworthiness Directives; Bell Helicopter Textron Canada Limited Model 427 Helicopters

AGENCY: Federal Aviation Administration, DOT.

ACTION: Supplemental notice of proposed rulemaking; reopening of comment period.

SUMMARY: This document revises an earlier proposed airworthiness directive (AD) for Bell Helicopter Textron Canada Limited (Bell) Model 427 helicopters that would have required modifying each auxiliary fin (fin) by relocating the upper tuning weights to a lower position. That proposal was prompted by several incidents of main rotor blades contacting the top of the fin that have resulted in an upper tuning weight (weight) becoming loose. This action revises the proposed rule by requiring a different modification of the auxiliary fin and revising the Limitations section of the Rotorcraft Flight Manual (RFM) to reduce the never-exceed speed (Vne) for a tail rotor pedal stop failure. The actions specified by this proposed AD are intended to prevent a main rotor blade from striking a fin, loss of a tuning weight, impact with a tail or main rotor blade, and subsequent loss of control of the helicopter.

DATES: Comments must be received on or before December 17, 2002.

ADDRESSES: Submit comments in triplicate to the Federal Aviation Administration (FAA), Office of the Regional Counsel, Southwest Region, Attention: Rules Docket No. 2001-SW-43-AD, 2601 Meacham Blvd., Room 663, Fort Worth, Texas 76137. You may also send comments electronically to the Rules Docket at the following address: 9-asw-adcomments@faa.gov. Comments may be inspected at the Office of the Regional Counsel between 9 a.m. and 3 p.m., Monday through Friday, except Federal holidays.

The service information referenced in the proposed rule may be obtained from Bell Helicopter Textron Canada, 12,800 Rue de l'Avenir, Mirabel, Quebec J7J1R4, telephone (450) 437-2862 or (800) 363-8023, fax (450) 433-0272. This information may be examined at the FAA, Office of the Regional Counsel, Southwest Region, 2601 Meacham Blvd., Room 663, Fort Worth, Texas.

FOR FURTHER INFORMATION CONTACT: Sharon Miles, Aviation Safety Engineer, FAA, Rotorcraft Directorate, Regulations Group, Fort Worth, Texas 76193-0111, telephone (817) 222-5122, fax (817) 222-5961.

SUPPLEMENTARY INFORMATION:

Comments Invited

Interested persons are invited to participate in the making of the proposed rule by submitting such written data, views, or arguments as they may desire. Communications should identify the Rules Docket number and be submitted in triplicate to the address specified above. All communications received on or before the closing date for comments, specified above, will be considered before taking action on the proposed rule. The proposals contained in this document may be changed in light of the comments received.

Comments are specifically invited on the overall regulatory, economic, environmental, and energy aspects of the proposed rule. All comments submitted will be available, both before and after the closing date for comments, in the Rules Docket for examination by interested persons. A report summarizing each FAA-public contact concerned with the substance of this proposal will be filed in the Rules Docket.

Commenters wishing the FAA to acknowledge receipt of their mailed comments submitted in response to this proposal must submit a self-addressed, stamped postcard on which the following statement is made: “Comments to Docket No. 2001-SW-43-AD.” The postcard will be date stamped and returned to the commenter.

Discussion

A proposal to amend part 39 of the Federal Aviation Regulations (14 CFR part 39) to add an AD for Bell Model 427 helicopters was published in the Federal Register on November 28, 2001 (66 FR 59377). That NPRM would have required modifying the fins, part number (P/N) 427-035-836-101 and 427-035-836-102, to relocate the weights, P/N 407-023-003-145. That NPRM was prompted by several incidents of main rotor blades contacting the top of the fin. The weights are located where a main rotor contact with the fin may result in a weight becoming loose. That condition, if not corrected, could result in loss of a weight, impact with a tail or main rotor blade, and subsequent loss of control of the helicopter.

Since the issuance of that NPRM, Transport Canada, which is the airworthiness authority for Canada, has issued a revised AD CF-2001-05R1, dated February 13, 2002, that requires, within 300 hours time-in-service or no later than May 30, 2002, modifying the auxiliary fins to reduce the height and revising the Limitations section of the RFM to reduce the Vne for a tail rotor pedal stop system failure from 80 knots indicated airspeed (KIAS) to 60 KIAS. The published NPRM recognized that relocating the tuning weights was an interim action and anticipated that contact between the main rotor blades and the top portion of the fins would be addressed in a separate AD. However, reducing the height of the fins as proposed in this document makes the relocation of the tuning weights unnecessary.

Therefore, the FAA agrees with the changes mandated by Transport Canada and is proposing those same actions as well as adding additional serial numbers and part numbers to the applicability. Since these changes expand the scope of the originally proposed rule, the FAA has determined that it is necessary to reopen the comment period to provide additional opportunity for public comment.

The FAA estimates that 30 helicopters of U.S. registry would be affected by this proposed AD, that it would take approximately 12 work hours per helicopter to accomplish the proposed actions, and that the average labor rate is $60 per work hour. Required parts would cost approximately $1,685 per helicopter. Based on these figures, the total cost impact of the proposed AD on U.S. operators is estimated to be $72,150 to perform the modifications and revisions for the entire fleet.

The regulations proposed herein would not have a substantial direct effect on the States, on the relationship between the national Government and the States, or on the distribution of power and responsibilities among the various levels of government. Therefore, it is determined that this proposal would not have federalism implications under Executive Order 13132.

For the reasons discussed above, I certify that this proposed regulation (1) is not a “significant regulatory action” under Executive Order 12866; (2) is not a “significant rule” under the DOT Regulatory Policies and Procedures (44 FR 11034, February 26, 1979); and (3) if promulgated, will not have a significant economic impact, positive or negative, on a substantial number of small entities under the criteria of the Regulatory Flexibility Act. A copy of the draft regulatory evaluation prepared for this action is contained in the Rules Docket. A copy of it may be obtained by contacting the Rules Docket at the location provided under the caption ADDRESSES.

List of Subjects in 14 CFR Part 39

Air transportation, Aircraft, Aviation safety, Safety.

The Proposed Amendment

Accordingly, pursuant to the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding a new airworthiness directive to read as follows:

Bell Helicopter Textron Canada Textron Canada Limited: Docket No. 2001-SW-43-AD.

Applicability: Model 427 helicopters, serial numbers 56001 through 56030 with auxiliary fin assemblies, part numbers 427-035-836-101, -102, -105, or -106, installed, certificated in any category.

Note 1: This AD applies to each helicopter identified in the preceding applicability provision, regardless of whether it has been otherwise modified, altered, or repaired in the area subject to the requirements of this AD. For helicopters that have been modified, altered, or repaired so that the performance of the requirements of this AD is affected, the owner/operator must request approval for an alternative method of compliance in accordance with paragraph (c) of this AD. The request should include an assessment of the effect of the modification, alteration, or repair on the unsafe condition addressed by this AD; and if the unsafe condition has not been eliminated, the request should include specific proposed actions to address it.

Compliance: Required as indicated, unless accomplished previously.

To prevent loss of an upper tuning weight (weight), impact with a tail or main rotor blade, and subsequent loss of control of the helicopter, accomplish the following:

(a) Within 60 days, modify auxiliary fin assemblies, part numbers (P/N) 427-035-836-101, -102, -105, or -106, in accordance with the Accomplishment Instructions in Bell Helicopter Textron Alert Service Bulletin No. 427-01-07, dated November 16, 2001.

(b) After accomplishing paragraph (a) of this AD, reduce the never-exceed speed (Vne) limitation for a pedal stop failure from 80 knots indicated airspeed (KIAS) to 60 KIAS.

Note 2: Revision 3 of Bell Helicopter Textron Rotorcraft Flight Manual BHT-427-Fm-2, dated October 31, 2001, incorporates the reduced airspeed limitation for a pedal stop failure.

(c) An alternative method of compliance or adjustment of the compliance time that provides an acceptable level of safety may be used if approved by the Manager, Regulations Group, Rotorcraft Directorate, FAA. Operators shall submit their requests through an FAA Principal Maintenance Inspector, who may concur or comment and then send it to the Manager, Regulations Group.

Note 3: Information concerning the existence of approved alternative methods of compliance with this AD, if any, may be obtained from the Regulations Group.

(d) Special flight permits may be issued in accordance with §§ 21.197 and 21.199 of the Federal Aviation Regulations (14 CFR 21.197 and 21.199) to operate the helicopter to a location where the requirements of this AD can be accomplished.

Note 4: The subject of this AD is addressed in Transport Canada (Canada) AD CF-2001-05R1 dated February 13, 2002.

Issued in Fort Worth, Texas, on October 4, 2002.
Eric Bries,
Acting Manager, Rotorcraft Directorate, Aircraft Certification Service.

[FR Doc. 02-26593 Filed 10-17-02; 8:45 am]

BILLING CODE 4910-13-P